FEDERAL RESERVE SYSTEM

12 CFR Part 217 and 252

[Docket No. R-1673]

RIN 7100-AF 56

Regulatory Capital Rules: Risk-Based Capital Requirements for Depository Institution Holding Companies Significantly Engaged in Insurance Activities; Extension of Comment Period

AGENCY: Board of Governors of the Federal Reserve System.

ACTION: Notice of proposed rulemaking; extension of comment period.

SUMMARY: On October 24, 2019, the Board of Governors of the Federal Reserve System (Board), published in the Federal Register a proposal to establish risk-based capital requirements for depository institution holding companies that are significantly engaged in insurance activities. The Board has determined that an extension of the comment period until January 22, 2020, is appropriate.

DATES: For the notice of proposed rulemaking published on October 24, 2019 (84 FR 57240), comments must be received by January 22, 2020.

ADDRESSES: You may submit comments by any of the methods identified in the proposal.

FOR FURTHER INFORMATION CONTACT: Thomas Sullivan, Associate Director, (202) 475-7656; Linda Duzick, Manager, (202) 728-5881; Matti Peltonen, Supervisory Insurance Valuation Analyst, (202) 872-7587; Brad Roberts, Supervisory Insurance Valuation Analyst, (202) 452-2204; or Matthew Walker, Supervisory Insurance Valuation Analyst, (202) 872-4971; Division of Supervision and Regulation; or Laurie Schaffer, Associate General Counsel, (202) 452-2272; David Alexander, Senior Counsel, (202) 452-2877; Andrew Hartlage, Counsel, (202) 452-6483; or Jonah Kind, Senior Attorney, (202) 452-2045; Legal Division, Board of Governors of the Federal Reserve System, 20th and C Streets NW, Washington, DC 20551. For the hearing impaired only, Telecommunication Device for the Deaf, (202) 263-4869.

SUPPLEMENTARY INFORMATION: On October 24, 2019, the Board published in the Federal Register a proposal to establish risk-based capital requirements for depository institution holding companies that are significantly engaged in insurance activities.¹ The Board is proposing a risk-based capital framework, termed the Building Block Approach, that adjusts and aggregates existing legal entity capital requirements to determine an enterprise-wide capital requirement, together with a risk-based capital requirement excluding insurance activities, in compliance with section 171 of the Dodd-Frank Act. The Board is additionally proposing to apply a buffer to limit an insurance depository institution holding company's capital distributions and discretionary bonus payments if it does not hold sufficient capital relative to enterprise-wide risk, including risk from insurance activities. The proposal would also revise reporting requirements for depository institution holding companies significantly engaged in insurance activities. The notice of proposed rulemaking stated that the comment period would close on December 23, 2019. The Board subsequently received requests to extend the comment period. An extension of the comment period will provide additional opportunity for the public to consider the proposal and prepare comments, including to address the questions posed by the Board in the proposal. Therefore, the Board is extending the end of the comment period for the proposal from December 23, 2019, to January 22, 2020.

¹ 84 FR 57240 (October 24, 2019).

By order of the Board of Governors of the Federal Reserve System, acting through the Secretary of the Board under delegated authority, December 4, 2019.
Ann Misback,
Secretary of the Board.

[FR Doc. 2019-26475 Filed 12-9-19; 8:45 am]

BILLING CODE P